DEPARTMENT OF ENERGY

Federal Energy Regulatory Commission

Combined Notice of Filings

Take notice that the Commission has received the following Natural Gas Pipeline Rate and Refund Report filings:

Docket Numbers: RP20-844-000.

Applicants: Natural Gas Pipeline Company of America.

Description: § 4(d) Rate Filing: Amendment to a Negotiated Rate Agreement-Corpus Christi Liquefaction, LLC to be effective 5/1/2020.

Filed Date: 5/1/20.

Accession Number: 20200501-5001.

Comments Due: 5 p.m. ET 5/18/20.

Docket Number: PR20-57-000.

Applicants: Louisville Gas and Electric Company.

Description: Tariff filing per 284.123(b),(e)/: Revised Statement of Operating Conditions eff 5-1-2020 to be effective 5/1/2020.

Filed Date: 5/11/2020.

Accession Number: 202005115056.

Comments/Protests Due: 5 p.m. ET 6/1/2020.

Docket Number: PR20-58-000.

Applicants: Black Hills/Kansas Gas Utility Company, LLC.

Description: Tariff filing per 284.123(b),(e)/: Black Hills/Kansas Gas Utility Company LLC SOC Filing CP19-483 to be effective 8/1/2019.

Filed Date: 5/11/2020.

Accession Number: 202005115080.

Comments/Protests Due: 5 p.m. ET 6/1/2020.

Docket Number: PR20-59-000.

Applicants: Columbia Gas of Maryland, Inc.

Description: Tariff filing per 284.123(b),(e)/: CMD Rates effective May 1 2020 to be effective 5/1/2020.

Filed Date: 5/13/2020.

Accession Number: 202005135043.

Comments/Protests Due: 5 p.m. ET 6/3/2020.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2020.
Nathaniel J. Davis, Sr.,
Deputy Secretary.

[FR Doc. 2020-10846 Filed 5-19-20; 8:45 am]

BILLING CODE 6717-01-P